DEPARTMENT OF TRANSPORTATION

Federal Aviation Administration

14 CFR Part 39

[Docket No. FAA-2017-1011; Product Identifier 2017-SW-004-AD]

RIN 2120-AA64

Airworthiness Directives; Airbus Helicopters Deutschland GmbH (Type Certificate Previously Held by Eurocopter Deutschland GmbH)

AGENCY: Federal Aviation Administration (FAA), DOT.

ACTION: Notice of proposed rulemaking (NPRM).

SUMMARY: We propose to supersede Airworthiness Directive (AD) 2013-16-14 for Eurocopter Deutschland GmbH (now Airbus Helicopters Deutschland GmbH) Model EC 135 P1, P2, P2+, T1, T2, and T2+ helicopters. AD 2013-16-14 currently requires installing a washer in and modifying the main transmission filter housing upper part. Since we issued AD 2013-16-14, Airbus Helicopters Deutschland GmbH has extended the overhaul interval for the main transmission and determined that other models may have the same unsafe condition. This proposed AD would retain the requirements of AD 2013-16-14, add models to the applicability, and revise the required compliance time for the modification. The actions of this proposed AD are intended to correct an unsafe condition on these products.

DATES: We must receive comments on this proposed AD by January 2, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-1011; or in person at the Docket Operations Office between 9 a.m. and 5 p.m., Monday through Friday, except Federal holidays. The AD docket contains this proposed AD, the European Aviation Safety Agency (EASA) AD, the economic evaluation, any comments received and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/website/technical-expert/.

You may review service information at the FAA, Office of the Regional Counsel, Southwest Region, 10101 Hillwood Pkwy., Room 6N-321, Fort Worth, TX 76177.

FOR FURTHER INFORMATION CONTACT: Rao Edupuganti, Aviation Safety Engineer, Regulations and Policy Section, Rotorcraft Standards Branch, FAA, 10101 Hillwood Pkwy., Fort Worth, TX 76177; telephone (817) 222-5110; email rao.edupuganti@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We issued AD 2013-16-14, Amendment 39-17552 (78 FR 54383, September 4, 2013) (AD 2013-16-14) for Eurocopter Deutschland GmbH (now Airbus Helicopters Deutschland GmbH) Model EC135 P1, P2, P2+, T1, T2, and T2+ helicopters with a certain serial-numbered main transmission FS108 housing upper part (upper part), part number (P/N) 4649 301 034. AD 2013-16-14 requires installing a corrugated washer in the filter housing of the upper part and modifying each affected upper part by machining the oil filter bypass inlet. AD 2013-16-14 was prompted by AD No. 2010-0213, dated October 14, 2010, issued by EASA, which is the Technical Agent for the Member States of the European Union. EASA issued AD No. 2010-0213 to correct an unsafe condition for Eurocopter Deutschland GmbH Model EC 135 and EC635 helicopters. EASA advised that a recent inspection on some upper parts for the main transmission FS108 revealed the bypass inlet in the oil filter area had not been manufactured in accordance with the applicable design specifications. EASA advised that this condition, if not detected and corrected, could adversely affect the oil-filter bypass function, which is essential for continued safe flight. The EASA AD required a temporary modification of the upper part by installing a corrugated washer, and then a “rework” of the oil filter area to bring the affected parts within the applicable design specifications.

Actions Since AD 2013-16-14 Was Issued

Since we issued AD 2013-16-14, EASA has issued AD 2017-0002, dated January 9, 2017 (AD 2017-0002), which superseded EASA AD 2010-0213. EASA advises that some affected upper parts have been re-identified with P/N 4649 301 067 or P/N 4649 301 088 without changing the serial number. EASA further advises that Airbus Helicopters has extended the compliance time to retrofit the housing to 5,150 hours to coincide with the extended interval between transmission overhauls. Accordingly, AD 2017-002 continues to require installing a corrugated washer in the upper part and modifying the upper part at the next overhaul; expands the applicability to include Model EC135P3, Model EC135T3, P/N 4649 301 067, and P/N 4649 301 088; extends the compliance time for machining the upper part; and makes minor editorial changes for clarity.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR Part 51

We reviewed Airbus Helicopters Alert Service Bulletin (ASB) EC135-63A-017, Revision 2, dated December 5, 2016 (ASB EC135-63A-017), for Model EC135 T1, T2, T2+, T3, P1, P2, P2+, P3, and 635 T1, T2+, T3, P2+, and P3 helicopters. This service information specifies removing the oil filter element and installing a corrugated washer. ASB EC135-63A-017 also specifies reworking the affected upper part at the next repair or overhaul of the main transmission, no later than 5,150 flight hours after receipt of the service bulletin. EASA classified this ASB as mandatory and issued AD 2017-0002 to ensure the continued airworthiness of these helicopters.

We also reviewed ZF Luftfahrttechnik GmbH Service Instruction No. EC135FS108-1659-1009, dated September 14, 2010, which specifies procedures for repairing the main transmission upper housing, and includes dimensions and tolerances for machining the upper part.

This service information is reasonably available because the interested parties have access to it through their normal course of business or by the means identified in the ADDRESSES section.

Other Related Service Information

We reviewed Eurocopter Alert Service Bulletin EC135-63A-017, Revision 0, dated October 11, 2010, for Model EC135 T1, T2, T2+, P1, P2, P2+, and 635 T1, T2+, and P2+ helicopters. This service information specifies the same Accomplishment Instructions as ASB EC135-63A-017, Revision 2, except with a shorter compliance time to rework the affected upper part.

Proposed AD Requirements

This proposed AD would retain the requirements of AD 2013-16-14 for installing a corrugated washer and modifying the upper part. This proposed AD would add Airbus Helicopters Deutschland Model EC135P3 and Model EC135T3 helicopters to the applicability requirements, add upper parts P/N 4649 301 067 and P/N 4649 301 088 to the applicability, revise the compliance time for installing a corrugated washer to within 50 hours time-in-service (TIS) or 3 months, whichever occurs earlier, and extend the compliance time for machining the upper part to 5,150 hours TIS.

Costs of Compliance

We estimate that this proposed AD would affect 236 helicopters of U.S. Registry. Based on an average labor rate of $85 per work hour, we estimate that operators may incur the following costs in order to comply with this proposed AD. Installing the corrugated washer would require about .5 work hour, and required parts would cost about $10, for a cost per helicopter of about $53, and a cost to the U.S. operator fleet of $12,508. Machining the housing upper part would require about 5 work-hours and required parts would cost about $73, for a cost per helicopter of $498, and a total cost to U.S. operators of $117,528. Based on these figures, we estimate the total cost of this proposed AD to be $130,036 for the U.S. operator fleet or $551 per helicopter.

According to Airbus Helicopters' service information some of the costs of this proposed AD may be covered under warranty, thereby reducing the cost impact on affected persons. We do not control warranty coverage by Airbus Helicopters. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-16-14, Amendment 39-17552 (78 FR 54383, September 4, 2013), and adding the following new AD:

Airbus Helicopters Deutschland GmbH (Type Certificate Previously Held by Eurocopter Deutschland GmbH): Docket No. FAA-2017-1011; Product Identifier 2017-SW-004-AD.

(a) Applicability

This AD applies to Model EC135 P1, P2, P2+, P3, T1, T2, T2+, and T3 helicopters with a main transmission FS108 housing upper part, part number (P/N) 4649 301 034, 4649 301 067, or 4649 301 088 and a serial number listed in Table 1 of Airbus Helicopters Alert Service Bulletin EC135-63A-017, Revision 2, dated December 5, 2016 (ASB EC135-63A-017), certificated in any category.

(b) Unsafe Condition

This AD defines the unsafe condition as an improperly manufactured bypass inlet in the oil filter area. This condition could adversely affect the oil-filter bypass function, resulting in failure of the main transmission and subsequent loss of control of the helicopter.

(c) Affected ADs

This AD supersedes AD 2013-16-14, Amendment 39-17552 (78 FR 54383, September 4, 2013).

(d) Comments Due Date

We must receive comments by January 2, 2018.

(e) Compliance

You are responsible for performing each action required by this AD within the specified compliance time unless it has already been accomplished prior to that time.

(f) Required Actions

(1) Within 3 months, remove the oil filter element and install a corrugated washer, P/N 0630100377, in the middle of the filter housing of the housing upper part as depicted in Figure 2 of ASB EC135-63A-017.

(2) Within 5,150 hours time-in-service or at the next main transmission repair or overhaul, whichever occurs first, machine the main transmission housing upper part in accordance with Annex A of ZF Luftfahrttechnik GmbH Service Instruction No. EC135FS108-1659-1009, dated September 14, 2010.

(3) Do not install a main transmission upper part, P/N 4649 301 034, 4649 301 067, or 4649 301 088, on any helicopter unless it has been modified as required by paragraphs (f)(1) through (f)(2) of this AD.

(g) Credit for Previous Actions

Actions accomplished before the effective date of this AD in accordance with the procedures specified in Eurocopter Alert Service Bulletin EC135-63A-017, Revision 0, dated October 11, 2010, are considered acceptable for compliance with the corresponding actions specified in paragraph (f) of this AD.

(h) Alternative Methods of Compliance (AMOCs)

(1) The Manager, Safety Management Section, FAA, may approve AMOCs for this AD. Send your proposal to: Rao Edupuganti, Aviation Safety Engineer, Regulations and Policy Section, Rotorcraft Standards Branch, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(i) Additional Information

(1) Eurocopter Alert Service Bulletin EC135-63A-017, Revision 0, dated October 11, 2010, which is not incorporated by reference, contains additional information about the subject of this AD. For service information identified in this AD, contact Airbus Helicopters, 2701 N. Forum Drive, Grand Prairie, TX 75052; telephone (972) 641-0000 or (800) 232-0323; fax (972) 641-3775; or at http://www.airbushelicopters.com/website/technical-expert/. You may review a copy of the service information at the FAA, Office of the Regional Counsel, Southwest Region, 10101 Hillwood Pkwy, Room 6N-321, Fort Worth, TX 76177.

(2) The subject of this AD is addressed in European Aviation Safety Agency (EASA) AD No. 2017-0002, dated January 9, 2017. You may view the EASA AD on the Internet at http://www.regulations.gov in the AD Docket.

(j) Subject

Joint Aircraft Service Component (JASC) Code: 6320 Main Rotor Gearbox.

Issued in Fort Worth, Texas, on October 16, 2017.
James A. Grigg,
Acting Director, Compliance & Airworthiness Division, Aircraft Certification Service.

[FR Doc. 2017-23201 Filed 11-2-17; 8:45 am]

BILLING CODE 4910-13-P